DEPARTMENT OF DEFENSE

Office of the Secretary

[Docket ID: DoD-2024-OS-0096]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 15, 2024.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness) (Military Personnel Policy)/Accession Policy, 4000 Defense Pentagon, Washington, DC 20301-4000, Suzanne Tovar, 703-697-9272.

SUPPLEMENTARY INFORMATION:

Title; Associated Form; and OMB Number: DoD Educational Loan Repayment Program (LRP) Annual Application; DD Form 2475; OMB Control Number 0704-0152.

Needs and Uses: The information collection requirement is necessary for Military Services to pay a portion of Service member student loan(s). The information provided is reviewed by Military Service personnel record custodians to verify that the Service member meets eligibility requirements. This form will then be forwarded to the lender the Service member identifies for verification of the loan amount and status. The form is returned to the Service finance office to make the annual payment to the Service member's lender. Collected information is covered by the Applicable Military Service System of Records Notice for the Official Military Personnel File of Military Records Jacket.

Affected Public: Individuals or households.

Annual Burden Hours: 7,333.

Number of Respondents: 44,000.

Responses per Respondent: 1.

Annual Responses: 44,000.

Average Burden per Response: 10 minutes.

Frequency: On occasion.

This information provides the Armed Services with the necessary data regarding outstanding student loan(s) of its Service Members. The DD Form 2475 is the method of collecting and verifying Service Member student loan data and enables the Department to pay on the student loan(s) based on the terms outlined in the Service Member's contract. The DD Form 2475 is considered the official request for obtaining payment on Service Member's student loan(s).

Dated: August 12, 2024.
Patricia L. Toppings,
OSD Federal Register Liaison Officer, Department of Defense.

[FR Doc. 2024-18363 Filed 8-15-24; 8:45 am]

BILLING CODE 6001-FR-P